DEPARTMENT OF LABOR

Office of the Treasury

Submission for OMB Emergency Review; Comment Request

September 18, 2002.

The Department of Labor has submitted the following (see below) information collection requests (ICRs), utilizing emergency review procedures, to the Office of Management and Budget (OMB) for review and clearance in accordance with the Paperwork Reduction Act of 1995 (Public Law 104-13, 44 U.S.C. Chapter 35). OMB approval has been requested by October 9, 2002. A copy of these ICRs, with applicable supporting documentation, may be obtained by contacting Darrin King on 202-693-4129 or e-mail: king-darrin@dol.gov.

Comments and questions about the ICRs listed below should be forwarded to the Office of Information and Regulatory Affairs, Attn: OMB Desk Officer for the Employment and Training Administration, Room 10235, Washington, DC 20503. Comments are requested by October 8, 2002. The Office of Management and Budget is particularly interested in comments which:

* evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submissions of responses.

Agency: Employment and Training Administration (ETA).

Titles: Customer Survey and TAA Customer Survey (OMB No. 1205-0190); Business Confidential Data Request and NAFTA Transitional Adjustment Assistance Confidential Data Request (OMB No. 1205-0339); and Petition for Trade Adjustment Assistance (OMB No. 1205-0342).

OMB Numbers: 1205-0342; 1205-0190; and 1205-0339.

Affected Public: Businesses or other for-profit; Individuals or households; and State, Local, or Tribal Government.

Type of Response: Reporting.

Total Burden Cost (capital/startup): $0.

Total Burden Cost (operating/maintaining): $0.

Description: The Trade Act of 2002 (Public Law 107-210) amends the Trade Act of 1974 and consolidates two previously authorized worker adjustment assistance programs, Trade Adjustment Assistance (TAA) and North American Free Trade Agreement-Transitional Adjustment Assistance (NAFTA-TAA) into one TAA program effective November 4, 2002. Section 221 (a) of Title II, Chapter 2 of the Trade Act of 1974, as amended by the Trade Act of 2002, authorizes the Secretary of Labor and the Governor of each state to accept petitions for certification of eligibility to apply for adjustment assistance. The petitions may be filed by a group of workers, their certified or recognized union or duly authorized representative, employers of such workers, one-stop operators or one-stop partners. ETA Form 9042a, Petition for Trade Adjustment Assistance, and its Spanish translation, ETA Form 9042a-1, Solicitud De Asistencia Para Ajuste, establish a format that may be used for filing such petitions. ETA Form 9042a and 9042a-1 revise and eliminate ETA Form 9042 (1205-0342, expiring 8/04) and its Spanish translation ETA 9042-1, and also eliminate ETA Form 8560 (1205-0192, expiring 7/03) and its Spanish translation ETA 8559.

Sections 222, 223 and 249 of the Trade Act of 1974, as amended, require the Secretary of Labor to issue a determination for groups of workers as to their eligibility to apply for Trade Adjustment Assistance (TAA). After reviewing all of the information obtained for each petition for trade adjustment assistance filed with the Department, a determination is issued as to whether the statutory criteria for certification are met. The information collected in ETA Form 9043a, Business Confidential Data Request, and ETA Form 8562a, Customer Survey, will be used by the Secretary to specifically determine to what extent, if any, increased imports or shift in production have impacted the petitioning worker group. The ETA 9043a revises ETA 9043 and ETA 9014. The ETA 8562A revises ETA 8562 and ETA 9044. The current ETA 9043 (1205-0339, expiring 8/04) and ETA 9014 (1205-0197, expiring 10/03) will remain in effect until the respective expiration dates. The current ETA 8562 (1205-0190, expiring 10/03) and ETA 9044 (1205-0337, expiring 7/04) will remain in effect until the respective expiration dates.

Ira L. Mills,
Departmental Clearance Officer.

[FR Doc. 02-24501 Filed 9-26-02; 8:45 am]

BILLING CODE 4510-30-M